NATIONAL SCIENCE FOUNDATION

Advisory Committee for Environmental Research and Education Notice of Meeting

In accordance with the Federal Advisory Committee Act (Pub. L. 92-463, as amended), the National Science Foundation announces the following meeting:

Name: Advisory Committee for Environment Research and Education (9487).

Dates: April 13, 2005, 8:30 a.m.-5 p.m., April 14, 2005, 8:30 a.m.-3:30 p.m.

Place: Stafford I, Room 1235, National Science Foundation, 4201 Wilson Blvd., Arlington, Virginia 22230.

Type of Meeting: Open.

Contact Person: Dr. David Campbell, Office of the Director, National Science Foundation, Suite 1205, 4201 Wilson Blvd., Arlington, Virginia 22230. Telephone: 703-292-8002.

Minutes: May be obtained from the contact person listed above.

Purpose of Meeting: To provide advice, recommendations, and oversight concerning support for environmental research and education.

Agenda: April 13:

Welcome, Introductions and Goals of Meeting.

NSF Update on Budget and Environmental Programs.

Reports on Recent ERE Activities.

Occasional Paper on Water.

Plans for International Polar Year.

Charge to Task Groups and Task Group Membership.

AC-ERE Task Group Meetings.

ERE Distinguished Speaker.

April 14:

Task Group Reports and Discussion of Ongoing Projects.

ERE Issues for Discussion with the Deputy Director.

O/D Guidance and Meeting with Dr. J. Bordogna, Deputy Director.

Background on GEOSS Programs.

Discussion of Ongoing Projects (continued).

Wrap-up: Review Action Items, Plans for next meeting.

Dated: March 9, 2005.
Susanne Bolton,
Committee Management Officer.

[FR Doc. 05-4944 Filed 3-11-05; 8:45 am]

BILLING CODE 7555-01-M